DEPARTMENT OF STATE

[Public Notice 9919]

Overseas Schools Advisory Council Charter Renewal

AGENCY: Department of State.

ACTION: Notice of renewal of an advisory committee charter.

FOR FURTHER INFORMATION CONTACT: Keith Miller, Senior Advisor to the Acting Director, Office of Overseas Schools and Acting Executive Secretary of the Council, at (202) 261-8201.

SUPPLEMENTARY INFORMATION:

Renewal of Advisory Committee: The Department of State announces the renewal of the charter of the Overseas Schools Advisory Council in accordance with the Federal Advisory Committee Act.

Purpose: The main objectives of the Council are:

(a) To advise the Department of State regarding matters of policy and funding for the overseas schools.

(b) To help the overseas schools become showcases for excellence in education.

(c) To help make service abroad more attractive to American citizens who have school-age children, both in the business community and in Government.

(d) To identify methods to mitigate risks to American private sector interests worldwide.

Keith Miller,
Senior Advisor to the Acting Director, Office of Overseas Schools and Acting Executive Secretary of the Council.

[FR Doc. 2017-05455 Filed 3-17-17; 8:45 am]

BILLING CODE 4710-24-P